DEPARTMENT OF TRANSPORTATION

Federal Aviation Administration

14 CFR Part 39

[Docket No. 2003-NM-16-AD; Amendment 39-13970; AD 2005-03-14]

RIN 2120-AA64

Airworthiness Directives; Airbus Model A300 B2 and B4 Series Airplanes

AGENCY: Federal Aviation Administration (FAA), Department of Transportation (DOT).

ACTION: Final rule; correction.

SUMMARY: This document corrects a typographical error that appeared in airworthiness directive (AD) 2005-03-14, which was published in the Federal Register on February 14, 2005 (70 FR 7384). The typographical error resulted in an incorrect reference to an AD number. This AD is applicable to certain Airbus Model A300 B2 and B4 series airplanes. This AD supersedes an existing AD that currently requires determining the part and amendment number of the variable lever arm (VLA) of the rudder control system to verify that the parts were installed using the correct standard, and corrective actions if necessary. For certain VLAs, this new AD requires repetitive inspections of the VLA and corrective action if necessary. This new AD also provides a terminating action for the repetitive inspections. Furthermore, this new AD reduces the applicability of affected airplanes.

DATES: Effective March 21, 2005.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: Airworthiness Directive (AD) 2005-03-14, amendment 39-13970, applicable to certain Airbus Model A300 B2 and B4 series airplanes, was published in the Federal Register on February 14, 2005 (70 FR 7384). That AD supersedes an existing AD that currently requires determining the part and amendment number of the variable lever arm (VLA) of the rudder control system to verify the parts were installed using the correct standard, and corrective actions if necessary. For certain VLAs, this new AD requires repetitive inspections of the VLA and corrective action if necessary. This new AD also provides a terminating action for the repetitive inspections. Furthermore, this new AD reduces the applicability of affected airplanes.

As published, that final rule incorrectly specified the AD number for the superseded AD in a single location in the AD as “2002-08-13” instead of “2001-22-02.”

Since no other part of the regulatory information has been changed, the final rule is not being republished in the Federal Register.

The effective date of this AD remains March 21, 2005.

§ 39.13 [Corrected]

On page 7385, in the third column, paragraph 2., of PART 39—AIRWORTHINESS DIRECTIVES is corrected to read as follows:

* * * * *

2005-03-14 Airbus: Docket 2003-NM-16-AD. Amendment 39-13970. Supersedes AD 2001-22-02, Amendment 39-12481.

* * * * *

Issued in Renton, Washington, on May 26, 2005.
Ali Bahrami,
Manager, Transport Airplane Directorate, Aircraft Certification Service.

[FR Doc. 05-11048 Filed 6-2-05; 8:45 am]

BILLING CODE 4910-13-P